DEPARTMENT OF TRANSPORTATION

Federal Aviation Administration

14 CFR Part 39

[Docket No. FAA-2022-0391; Project Identifier MCAI-2021-00980-T; Amendment 39-22163; AD 2022-18-12]

RIN 2120-AA64

Airworthiness Directives; Airbus SAS Airplanes

AGENCY: Federal Aviation Administration (FAA), DOT.

ACTION: Final rule.

SUMMARY: The FAA is adopting a new airworthiness directive (AD) for all Airbus SAS Model A330-841 and -941 airplanes. This AD was prompted by a report of erroneous electronic centralized airplane monitoring (ECAM) warnings for low engine oil pressure, which can lead to a commanded shutdown of an engine. This AD requires installing serviceable engine electronic control (EEC) software or EEC units having the serviceable software, limiting certain parts installation configurations, and prior or concurrent modification of EEC software, as specified in a European Union Aviation Safety Agency (EASA) AD, which is incorporated by reference. The FAA is issuing this AD to address the unsafe condition on these products.

DATES: This AD is effective October 20, 2022.

The Director of the Federal Register approved the incorporation by reference of a certain publication listed in this AD as of October 20, 2022.

ADDRESSES: For EASA material incorporated by reference (IBR) in this AD, contact EASA, Konrad-Adenauer-Ufer 3, 50668 Cologne, Germany; telephone +49 221 8999 000; email ADs@easa.europa.eu; internet easa.europa.eu. You may find this IBR material on the EASA website at ad.easa.europa.eu. You may view this material at the FAA, Airworthiness Products Section, Operational Safety Branch, 2200 South 216th St., Des Moines, WA. For information on the availability of this material at the FAA, call 206-231-3195. It is also available in the AD docket at regulations.gov by searching for and locating Docket No. FAA-2022-0391.

Examining the AD Docket

You may examine the AD docket at regulations.gov by searching for and locating Docket No. FAA-2022-0391; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, FAA, International Validation Branch, 2200 South 216th St., Des Moines, WA 98198; telephone and fax 206-231-3229; email vladimir.ulyanov@faa.gov.

SUPPLEMENTARY INFORMATION:

Background

EASA, which is the Technical Agent for the Member States of the European Union, has issued EASA AD 2021-0198, dated August 27, 2021 (EASA AD 2021-0198) (also referred to as the MCAI), to correct an unsafe condition for all Airbus SAS Model A330-841 and -941 airplanes.

The FAA issued a notice of proposed rulemaking (NPRM) to amend 14 CFR part 39 by adding an AD that would apply to all Airbus SAS Model A330-841 and -941 airplanes. The NPRM published in the Federal Register on April 5, 2022 (87 FR 19651). The NPRM was prompted by a report of erroneous ECAM warnings for low engine oil pressure, which can lead to a commanded shutdown of an engine. The NPRM proposed to require installing serviceable EEC software or EEC units having the serviceable software, limiting certain parts installation configurations, and prior or concurrent modification of EEC software, as specified in EASA AD 2021-0198.

The FAA is issuing this AD to address erroneous ECAM engine oil pressure warnings, which could lead to dual engine in-flight shutdown and result in reduced control of the airplane. See the MCAI for additional background information.

Discussion of Final Airworthiness Directive

Comments

The FAA received comments from three commenters, including Delta Air Lines and two individuals. The following presents the comments received on the NPRM and the FAA's response to each comment.

Request for Incorporation by Reference Paragraph

Delta Air Lines (Delta) requested adding paragraph (k), “Material Incorporated by Reference,” to the proposed AD that states the incorporation by reference of EASA AD 2021-0198. Delta supported the improved efficiency of FAA ADs that reference EASA ADs as a primary source of information for accomplishing the requirements of FAA ADs.

The FAA agrees to add paragraph (k) to this AD to identify the material that is incorporated by reference. In ADs, whenever there is material to be incorporated by reference, the paragraph that states which material has been approved by the Director of the Federal Register for incorporation by reference is typically added to final rules, not NPRMs.

General Statement of Disagreement

Two individuals generally disagreed with the proposed AD without any further justification.

The FAA infers that these individuals are requesting that the FAA withdraw the proposed AD. The FAA disagrees with withdrawing the proposed AD. The FAA has determined that the issuance of an airworthiness directive is the appropriate method to correct the unsafe condition described in this AD. The FAA has not changed the AD in this regard.

Conclusion

The FAA reviewed the relevant data, considered the comments received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2021-0198 specifies procedures for installing serviceable EEC software or EEC units having the serviceable software, limiting certain parts installation configurations, and prior or concurrent modification of EEC software. This material is reasonably available because the interested parties have access to it through their normal course of business or by the means identified in the ADDRESSES section.

Costs of Compliance

The FAA estimates that this AD affects 11 airplanes of U.S. registry. The FAA estimates the following costs to comply with this AD:

Estimated Costs for Required Actions
Labor cost | Parts cost | Cost per product | Cost on U.S. operators
21 work-hours × $85 per hour = $1,785 | $0 | $1,785 | $19,635

The FAA has received no definitive data on which to base the cost estimates for the software update specified in this AD.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-18-12 Airbus SAS: Amendment 39-22163; Docket No. FAA-2022-0391; Project Identifier MCAI-2021-00980-T.

(a) Effective Date

This airworthiness directive (AD) is effective October 20, 2022.

(b) Affected ADs

None.

(c) Applicability

This AD applies to all Airbus SAS Model A330-841 and -941 airplanes, certificated in any category.

(d) Subject

Air Transport Association (ATA) of America Code 73, Engine Fuel & Control.

(e) Unsafe Condition

This AD was prompted by a report of erroneous electronic centralized airplane monitoring (ECAM) warnings for low engine oil pressure, which can lead to a commanded shutdown of an engine. The FAA is issuing this AD to address erroneous ECAM engine oil pressure warnings, which could lead to dual engine in-flight shutdown and result in reduced control of the airplane.

(f) Compliance

Comply with this AD within the compliance times specified, unless already done.

(g) Requirements

Except as specified in paragraph (h) of this AD: Comply with all required actions and compliance times specified in, and in accordance with, European Union Aviation Safety Agency (EASA) AD 2021-0198, dated August 27, 2021 (EASA AD 2021-0198).

(h) Exceptions to EASA AD 2021-0198

(1) Where EASA AD 2021-0198 refers to its effective date or “10 September 2021,” this AD requires using the effective date of this AD.

(2) Where paragraphs (5) and (6) of EASA AD 2021-0198 refers to “From 10 September 2021 . . . until 09 September 2023,” this AD requires using “from the effective date of this AD up to 24 months after the effective date of this AD.”

(3) Where paragraph (7) of EASA AD 2021-0198 refers to “10 September 2023,” this AD requires using 24 months after the effective date of this AD.

(4) This AD does not mandate compliance with the “Remarks” section of EASA AD 2021-0198.

(i) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, Large Aircraft Section, FAA, International Validation Branch, 2200 South 216th St., Des Moines, WA 98198; telephone and fax 206-231-3229; email vladimir.ulyanov@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0198, dated August 27, 2021.

(ii) [Reserved]

(3) For EASA AD 2021-0198, contact EASA, Konrad-Adenauer-Ufer 3, 50668 Cologne, Germany; telephone +49 221 8999 000; email ADs@easa.europa.eu; internet easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: archives.gov/federal-register/cfr/ibr-locations.html.

Issued on August 23, 2022.
Christina Underwood,
Acting Director, Compliance & Airworthiness Division, Aircraft Certification Service.

[FR Doc. 2022-19808 Filed 9-14-22; 8:45 am]

BILLING CODE 4910-13-P